NATIONAL AERONAUTICS AND SPACE ADMINISTRATION

[Notice: (14-105)]

NASA Advisory Council; Science Committee; Planetary Protection Subcommittee; Meeting

AGENCY: National Aeronautics and Space Administration.

ACTION: Notice of meeting.

SUMMARY: In accordance with the Federal Advisory Committee Act, Public Law 92-463, as amended, the National Aeronautics and Space Administration (NASA) announces a meeting of the Planetary Protection Subcommittee (PPS) of the NASA Advisory Council (NAC). This Subcommittee reports to the Science Committee of the NAC. The meeting will be held for the purpose of soliciting, from the scientific community and other persons, scientific and technical information relevant to program planning.

DATES: Monday, November 17, 2014, 8:00 a.m. to 5:00 p.m., and Tuesday, November 18, 2014, 8:30 a.m. to 4:00 p.m., Local Time.

ADDRESSES: NASA Headquarters, 300 E Street SW., Room 6H41, Washington, DC 20546.

FOR FURTHER INFORMATION CONTACT: Ms. Ann Delo, Science Mission Directorate, NASA Headquarters, Washington, DC 20546, (202) 358-0750, fax (202) 358-2779.

SUPPLEMENTARY INFORMATION: The meeting will be open to the public up to the capacity of the room. The meeting will also be available telephonically and by WebEx. Any interested person may call the USA toll free conference call number 844-467-6272, passcode 229669, to participate in this meeting by telephone. The WebEx link is https://nasa.webex.com/, the meeting number on November 17, 2014, is 994-009-643, passcode PPS11172014#; the meeting telephone conference number on November 18, 2014, is 844-467-6272, passcode 229669. The WebEx link is https://nasa.webex.com/, the meeting number on November 18, 2014 is 997-419-246, passcode PPS11182014#.

The agenda for the meeting includes the following topics:

—Update on NASA Planetary Protection Activities and Committee on Space Research (COSPAR)

—Mars 2020 Level I requirements

—Evolvable Mars

—Rosetta

—Europa status planning

—Other related items

Attendees will be requested to sign a register and to comply with NASA Headquarters security requirements, including the presentation of a valid picture ID before receiving access to NASA Headquarters. Foreign nationals attending this meeting will be required to provide a copy of their passport and visa in addition to providing the following information no less than 10 working days prior to the meeting: Full name; gender; date/place of birth; citizenship; passport information (number, country, telephone); visa information (number, type, expiration date); employer/affiliation information (name of institution, address, country, telephone); title/position of attendee. To expedite admittance, attendees with U.S. citizenship and Permanent Residents (green card holders) can provide full name and citizenship status 3 working days in advance by contacting Ann Delo via email at ann.b.delo@nasa.gov or by fax at (202) 358-2779. It is imperative that the meeting be held on these dates to accommodate the scheduling priorities of the key participants. Due to administrative error, this advisory committee meeting notice is being published with less than 15 calendar day advance publication requirement. Exceptional circumstances warrant proceeding with the meeting. Subcommittee members were informed of the meeting date several months ago, and have made firm schedule commitments and travel arrangements for this meeting. To mitigate the late publication, the Agency will issue a NASA Solicitation and Proposal Integrated Review and Evaluation System (NSPIRES) announcement to members of the scientific community. In addition, corrective action is being taken by the Agency to prevent future late meeting notices.

Patricia D. Rausch,
Advisory Committee Management Officer, National Aeronautics and Space Administration.

[FR Doc. 2014-26657 Filed 11-7-14; 8:45 am]

BILLING CODE 7510-13-P